DEPARTMENT OF TRANSPORTATION

Federal Aviation Administration

Public Notice for Waiver of Aeronautical Land-Use Assurance; Marv Skie-Lincoln County Airport; Tea, SD

AGENCY: Federal Aviation Administration, DOT.

ACTION: Notice of intent of waiver with respect to land.

SUMMARY: The Federal Aviation Administration (FAA) is considering a proposal to authorize the release of 1.109 acres of the airport property at the Marv Skie-Lincoln County Airport, Tea, South Dakota. The proposal consists of the trade of unimproved land on the east side of the airport owned by the County of Lincoln for an equal parcel of land located on the west side of the airport.

The acreage being released is not needed for aeronautical use as currently identified on the Airport Layout Plan. There are no impacts to the airport by allowing the County to trade properties. Approval does not constitute a commitment by the FAA to financially assist in the disposal of the airport property nor a determination of eligibility for grant-in-aid funding from the FAA.

DATES: Comments must be received on or before April 25, 2011.

ADDRESSES: Mr. David P. Anderson, Program Manager, Bismarck Airports District Office, 2301 University Drive, Building 23B, Bismarck, North Dakota, 58504.

FOR FURTHER INFORMATION CONTACT: Mr. David P. Anderson, Program Manager, Bismarck Airports District Office, 2301 University Drive, Building 23B, Bismarck, North Dakota. Telephone Number (701) 323-7380/FAX Number (701) 323-7399. Documents reflecting this FAA action may be reviewed at this same location or at the Lincoln County States Attorneys Office, 104 North Main Street, Suite 200, Canton, South Dakota.

SUPPLEMENTARY INFORMATION: Following is a description of the subject airport property to be released at the Marv Skie-Lincoln County Airport.

This property for release is for a land trade at the Marv Skie-Lincoln County Airport owned by the County of Lincoln, South Dakota. The property for release was originally acquired under Airport Improvement Program grant number 3-46-0078-001-1988. This 1.109 acres is located in Southeast Quarter of the Northwest Quarter of Section 30, Township 100 North, Range 50 West of the 5th Principle Meridian.

Said parcel subject to all easements, restrictions, and reservations of record.

Issued in Bismarck, North Dakota, on February 28, 2011.
Thomas T. Schauer,
Manager, Bismarck Airports District Office, FAA, Great Lakes Region.

[FR Doc. 2011-7058 Filed 3-24-11; 8:45 am]

BILLING CODE 4910-13-P